DEPARTMENT OF TRANSPORTATION

Federal Aviation Administration

14 CFR Part 39

[Docket No. FAA-2021-0714; Project Identifier 2019-CE-016-AD]

RIN 2120-AA64

Airworthiness Directives; ASI Aviation (Type Certificate Previously Held by Reims Aviation S.A.) Airplanes

AGENCY: Federal Aviation Administration (FAA), DOT.

ACTION: Notice of proposed rulemaking (NPRM).

SUMMARY: The FAA proposes to adopt a new airworthiness directive (AD) for all ASI Aviation (type certificate previously held by Reims Aviation S.A.) Model F406 airplanes. This proposed AD was prompted by mandatory continuing airworthiness information (MCAI) originated by an aviation authority of another country to identify and correct an unsafe condition on an aviation product. The MCAI describes the unsafe condition as failure of a circuit breaker (CB) switch. This proposed AD would require replacing certain CB switches and establishing a life limit for the CB switches. The FAA is proposing this AD to address the unsafe condition on these products.

DATES: The FAA must receive comments on this proposed AD by October 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact ASI Aviation, Aérodrome de Reims Prunay, 51360 Prunay, France; telephone: +33 3 26 48 46 84; fax: +33 3 26 49 18 57; email: contact@asi-aviation.fr; website: https://asi-aviation.fr/page-Accueil.html. You may view this service information at the Airworthiness Products Section, Operational Safety Branch, 901 Locust, Kansas City, MO 64106. For information on the availability of this material at the FAA, call (816) 329-4148.

Examining the AD Docket

You may examine the AD docket at https://www.regulations.gov by searching for and locating Docket No. FAA-2021-0714; or in person at Docket Operations between 9 a.m. and 5 p.m., Monday through Friday, except Federal holidays. The AD docket contains this NPRM, the MCAI, any comments received, and other information. The street address for Docket Operations is listed above.

FOR FURTHER INFORMATION CONTACT: Gregory Johnson, Aviation Safety Engineer, AIR-732 International Validation Section FAA, 901 Locust, Room 301, Kansas City, MO 64106-2641; phone: (720) 626-5462; email: gregory.johnson@faa.gov.

SUPPLEMENTARY INFORMATION:

Comments Invited

The FAA invites you to send any written relevant data, views, or arguments about this proposal. Send your comments to an address listed under ADDRESSES. Include “Docket No. FAA-2021-0714; Project Identifier 2019-CE-016-AD” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Gregory Johnson, Aviation Safety Engineer, AIR-732 International Validation Section FAA, 901 Locust, Room 301, Kansas City, MO 64106-2641. Any commentary that the FAA receives which is not specifically designated as CBI will be placed in the public docket for this rulemaking.

Background

The European Aviation Safety Agency (EASA), which is the Technical Agent for the Member States of the European Union, has issued EASA AD 2019-0015, dated January 29, 2019 (referred to after this as “the MCAI”), to address an unsafe condition on ASI Aviation (type certificate previously held by Reims Aviation S.A.) Model F406 airplanes. The MCAI states:

After the Federal Aviation Administration issued AD 2005-20-25, applicable to Cessna 400 series aeroplanes equipped with certain avionics bus CB switches, it was determined that, due to design commonality, one of the affected avionics bus CB switches, P/N [part number] CM3589-50, was also installed on Reims F 406 aeroplanes.

This condition, if not corrected, could lead to smoke and/or burning smell in the cockpit, possibly resulting in reduced control of the aeroplane.

To address that potential unsafe condition, RAI issued SB [service bulletin] F406-62 to provide instructions to remove certain switches from service. Consequently, EASA issued AD 2006-0134 to require identification of the date code of P/N CM3589-50 CB switches and, depending on findings, replacement with improved design CB switches, P/N 4061-2400-1. That [EASA] AD also imposed a life limit on the affected CB switches P/N CM3589-50.

Since that [EASA] AD was issued, in-service occurrences of smoke and burning smell in the cockpit have been reported on F 406 aeroplanes. Technical investigations revealed that these were due to failure of CB switches P/N CM3589-20, which are used to control the propeller de-icing circuit. Prompted by these events, ASI Aviation issued the applicable SB (as defined in this [EASA] AD) to provide instructions to replace the affected parts with serviceable parts.

For the reasons described above, this [EASA] AD retains the requirements of EASA AD 2006-0134, which is superseded, expands the range of affected parts, and requires replacement of P/N CM3589-20 CB switches with improved design CB switches P/N 406E2450-00000-100. This [EASA] AD also replaces the previous life limit, 1 000 flight hours (FH) for certain P/N CM3589-50 CB switches, with a 6 year calendar time life limit, and also imposes that limit on the improved design CB switches.

You may examine the MCAI in the AD docket at https://www.regulations.gov by searching for and locating Docket No. FAA-2021-0714.

Related Service Information Under 1 CFR Part 51

The FAA reviewed ASI Aviation Service Bulletin No. F406-62, Revision 01, dated December 14, 2018, which specifies inspecting the CB switches to determine the date code, replacing CB switches with certain date codes, and establishing a life limit of 6 years for the new CB switches. The FAA also reviewed ASI Aviation Service Bulletin No. F406-90, dated December 14, 2018, which specifies replacing the CB switches and establishing a life limit of 6 years for the new CB switches. This service information is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements

This proposed AD would require accomplishing the actions specified in the service information already described, except as discussed under “Differences Between this Proposed AD and the MCAI.”

Differences Between This Proposed AD and the MCAI

The MCAI allows installation of an affected CB switch until the airplane is modified. This proposed AD would prohibit installation of an affected CB switch as of the effective date of this AD.

Costs of Compliance

The FAA estimates that this AD, if adopted as proposed, would affect 4 airplanes of U.S. registry.

The FAA also estimates that it would take about 5 work-hours per airplane to comply with the inspection required by this proposed AD. The average labor rate is $85 per work-hour.

Based on these figures, the FAA estimates the inspection cost of this proposed AD on U.S. operators to be $1,700 or $425 per airplane.

In addition, the FAA estimates that each replacement required by this proposed AD would take about 1 work-hour and require parts costing $350. Based on these figures, the FAA estimates the replacement cost of this proposed AD on U.S. operators to be $435 per airplane.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

ASI Aviation (Type Certificate Previously Held by Reims Aviation S.A.): Docket No. FAA-2021-0714; Project Identifier 2019-CE-016-AD.

(a) Comments Due Date

The FAA must receive comments on this airworthiness directive (AD) by October 12, 2021.

(b) Affected ADs

None.

(c) Applicability

This AD applies to ASI Aviation (type certificate previously held by Reims Aviation S.A.) Model F406 airplanes, all serial numbers, certificated in any category.

(d) Subject

Joint Aircraft System Component (JASC) Code 2400, Electrical Power System.

(e) Unsafe Condition

This AD was prompted by mandatory continuing airworthiness information (MCAI) originated by an aviation authority of another country to identify and correct an unsafe condition on an aviation product. The MCAI describes the unsafe condition as failure of a circuit breaker (CB) switch. The FAA is issuing this AD to prevent smoke and burning smell in the cockpit caused by failure of CB switches. The unsafe condition, if not addressed, could result in reduced controllability of the airplane.

(f) Compliance

Comply with this AD within the compliance times specified, unless already done.

(g) Inspection and Corrective Actions

Within 200 hours time-in-service (TIS) or within 12 months, whichever occurs first after the effective date of this AD, prepare the airplane and gain access in accordance with steps 1 through 7 of the Accomplishment Instructions in ASI Aviation Service Bulletin No. F406-62, Revision 01, dated December 14, 2018 (SB F406-62R1), and inspect each avionics bus CB switch part number (P/N) CM3589-50 to identify the date code.

(1) If a CB switch does not have a date code, before further flight, remove the CB switch from service and install CB switch P/N 4061-2400-1 in accordance with steps 9 through 14 of the Accomplishment Instructions in SB F406-62R1.

(2) If a CB switch has a date code earlier than 0434, before the CB switch exceeds 1,000 hours TIS since first installation on an airplane, remove the CB switch from service and install CB switch P/N 4061-2400-1 in accordance with steps 9 through 14 of the Accomplishment Instructions in SB F406-62R1.

(3) If a CB switch has a date code 0434 or later, before the CB switch exceeds 6 years since first installation on an airplane or within 12 months after the effective date of this AD, whichever occurs later, remove the CB switch from service and install CB switch P/N 4061-2400-1 in accordance with steps 9 through 14 of the Accomplishment Instructions in SB F406-62R1.

(h) Replacements

Within 200 hours TIS or within 12 months, whichever occurs first after the effective date of this AD, remove each CB switch P/N CM3589-20 from service, re-identify the CB panel, and install CB switches with P/N 406E2450-00000-100 in accordance with Part 1, steps 1 through 13, of the Accomplishment Instructions in ASI Aviation Service Bulletin No. F406-90, dated December 14, 2018 (SB F406-90).

(i) Life Limit

Before exceeding 6 years since first installation on an airplane and thereafter at intervals not to exceed 6 years, remove each CB switch P/N 4061-2400-1 and P/N 406E2450-00000-100 from service and replace it in accordance with steps 9 through 14 of the Accomplishment Instructions in SB F406-62R1 or Part 1, steps 1 through 13, of the Accomplishment Instructions in SB F406-90, as applicable.

(j) Parts Installation Prohibition

As of the effective date of this AD, do not install a CB switch P/N CM3589-50 or P/N CM3589-20 on any airplane.

(k) Credit for Previous Actions

You may take credit for the actions required by paragraph (g) of this AD if you performed those actions before the effective date of this AD using Reims Aviation Industries Service Bulletin No. F406-62, dated March 8, 2006.

(l) Alternative Methods of Compliance (AMOCs)

(1) The Manager, General Aviation & Rotorcraft Section (AIR-732), International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information or email 9-AVS-AIR-730-AMOC@faa.gov.

(2) Before using any approved AMOC, notify your appropriate principal inspector, or lacking a principal inspector, the manager of the local flight standards district office/certificate holding district office.

(m) Related Information

(1) For more information about this AD, contact Gregory Johnson, Aviation Safety Engineer, AIR-732 International Validation Section FAA, 901 Locust, Room 301, Kansas City, MO 64106-2641; phone: (720) 626-5462; email: gregory.johnson@faa.gov.

(2) Refer to European Aviation Safety Agency (EASA) AD 2019-0015, dated January 29, 2019, for more information. You may examine the EASA AD in the AD docket at https://www.regulations.gov by searching for and locating it in Docket No. FAA-2021-0714.

(3) For service information identified in this AD, contact ASI Aviation, Aérodrome de Reims Prunay, 51360 Prunay, France; telephone: +33 3 26 48 46 84; fax: +33 3 26 49 18 57; email: contact@asi-aviation.fr; website: https://asi-aviation.fr/page-Accueil.html. You may view this referenced service information at the FAA, Airworthiness Products Section, Operational Safety Branch, 901 Locust, Kansas City, MO 64106. For information on the availability of this material at the FAA, call (816) 329-4148.

Issued on August 20, 2021.
Lance T. Gant,
Director, Compliance & Airworthiness Division, Aircraft Certification Service.

[FR Doc. 2021-18386 Filed 8-26-21; 8:45 am]

BILLING CODE 4910-13-P